DEPARTMENT OF COMMERCE

National Oceanic and Atmospheric Administration

[I.D. 040204B]

Magnuson-Stevens Act Provisions; General Provisions for Domestic Fisheries; Applications for Exempted Fishing Permits (EFPs)

AGENCY: National Marine Fisheries Service (NMFS), National Oceanic and Atmospheric Administration (NOAA), Department of Commerce.

ACTION: Notification of a proposal for EFPs to conduct experimental fishing; request for comments.

SUMMARY: The Assistant Regional Administrator for Sustainable Fisheries, Northeast Region, NMFS (Assistant Regional Administrator) has made a preliminary determination that an EFP application submitted by the Mount Desert Oceanarium (MDO), Southwest Harbor, ME, contains all of the required information and warrants further consideration. The EFP would allow one fishing vessel to fish for, retain, and land small numbers of regulated fish species and several unmanaged fish and invertebrate species for the purpose of public display. The Assistant Regional Administrator has made a preliminary determination that the activities authorized under these EFPs would be consistent with the goals and objectives of the Fishery Management Plans (FMPs) for these species. However, further review and consultation may be necessary before a final determination is made to issue EFPs.

Regulations under the Magnuson-Stevens Act require publication of this notification to provide interested parties the opportunity to comment on applications for proposed EFPs.

DATES: Comments must be received on or before April 23, 2004.

ADDRESSES: Written comments should be sent to Patricia A. Kurkul, Regional Administrator, NMFS, NE Regional Office, 1 Blackburn Drive, Gloucester, MA 01930. Mark the outside of the envelope “Comments on MDO Specimen Collection.” Comments may also be sent via fax to (978) 281-9135. Comments may also be submitted via e-mail to the following address: da441@noaa.gov. Include in the subject line of the e-mail “Comments on MDO Specimen Collection.”

FOR FURTHER INFORMATION CONTACT: Catherine Tadema-Wielandt, Fishery Management Specialist, 978-281-9244.

SUPPLEMENTARY INFORMATION: The Mount Desert Oceanarium of Southwest Harbor, ME, submitted an application for three EFPs on March 10, 2004, to collect several species of fish and invertebrates for public display. The target species would include American plaice (dab), winter flounder (blackback), yellowtail flounder, witch flounder (grey sole), Atlantic halibut, monkfish, eel pouts, sculpins, sea raven, Atlantic cod, lumpfish, Atlantic wolffish, spiny dogfish, little skate, barndoor skate, and various species of the Phyla Arthropoda (excluding lobsters) and Echinodermata.

One chartered fishing vessel would use a shrimp otter trawl with 2-inch (5.08 cm) mesh to collect marine fish and invertebrates for a maximum of 4 days: 2 days during the period May 10, 2004, through May 19, 2004, and 2 days during the period June 23, 2004, through June 30, 2004. The specimens would be cared for in chilled and aerated seawater while on board the fishing vessel and would be transferred live to tanks the day they are caught. The fish would be brought to shore, maintained in tanks for public display for a period of time not to exceed 5 months, and would be returned to the sea in October 2004.

Collection would be made within the Small Mesh Northern Shrimp Fishery Exemption Area (Area) off Maine. Since the shrimp fishery will be closed at the time of the proposed collection, and this area lies within the Gulf of Maine Regulated Mesh Area, an exemption from the Northeast (NE) multispecies minimum mesh requirements of 6-inch (15.24 cm) diamond/6.5-inch (16.51 cm) square mesh at 50 CFR 648.80(a)(3) would be required.

The applicant would retain a maximum of six individuals per species, juveniles and adults combined, with the exception of Atlantic halibut. The applicant would only be permitted to retain a total of one Atlantic halibut with a minimum length of 36 inches (91.44 cm). The applicant has requested the following exemptions from the NE Multispecies and Monkfish Fishery Management Plans: effort control program requirements at 50 CFR 648.82(a) and 648.92(a); minimum fish sizes at §§ 648.83(a)(1) and 648.93(a)(1), and monkfish possession restrictions at § 648.94(b)(6). The EFP would also exempt the vessels from the possession and landing restrictions for the NE skate complex fishery at § 648.322(c).

Any fishing activity conducted outside the scope of the exempted fishing activity would be prohibited.

Authority: 16 U.S.C. 1801 et seq.

Dated: April 2, 2004.
Bruce C. Morehead,
Acting Director, Office of Sustainable Fisheries, National Marine Fisheries Service.

[FR Doc. 04-7982 Filed 4-7-04; 8:45 am]

BILLING CODE 3510-22-S